DEPARTMENT OF COMMERCE

Foreign-Trade Zones Board

[Docket 51-2008]

Foreign-Trade Zone 82—Mobile, AL; Application for Subzone; ThyssenKrupp Steel and Stainless USA, LLC, (Stainless and Carbon Steel Products), Calvert, AL

An application has been submitted to the Foreign-Trade Zones Board (the Board) by the City of Mobile, grantee of FTZ 82, requesting special-purpose subzone status for the stainless and carbon steel products manufacturing facility of ThyssenKrupp Steel and Stainless USA, LLC (ThyssenKrupp), located in Calvert, Alabama. The application was submitted pursuant to the provisions of the Foreign-Trade Zones Act, as amended (19 U.S.C. 81a-81u), and the regulations of the Board (15 CFR part 400). It was formally filed on October 1, 2008.

The ThyssenKrupp facility (2,500 employees, 3,515 acres/square feet, 4.5 million metric ton capacity for carbon steel products and 1 million metric ton capacity for stainless steel products) is located at 1 ThyssenKrupp Drive, near the city of Calvert, Washington and Mobile Counties, Alabama. The facility will be used for the manufacturing, processing and distribution of carbon and stainless steel products. Components and materials sourced from abroad (representing 44% of the value of finished stainless steel products and 45% of the value of the finished carbon steel products) include: Ferrochromium, unwrought molybdenum, ferrosilicon, articles of titanium, ferrosilicon manganese, unwrought titanium, ferro-niobium, ferro-boron, wire and rods of agglom, unwrought aluminum and zinc (duty rate ranges from duty-free to 15%).

FTZ procedures would exempt ThyssenKrupp from customs duty payments on the foreign components used in export production. The company anticipates that some 27 percent of the plant's stainless steel shipments and 5-10 percent of its carbon steel shipments will be exported. On its domestic sales, ThyssenKrupp would be able to choose the duty rates during customs entry procedures that apply to the finished stainless steel and carbon steel products (duty-free) for the foreign inputs noted above. The request indicates that the savings from FTZ procedures would help improve the plant's international competitiveness.

In accordance with the Board's regulations, Elizabeth Whiteman of the FTZ Staff is designated examiner to investigate the application and report to the Board.

Public comment is invited from interested parties. Submissions (original and 3 copies) shall be addressed to the Board's Executive Secretary at the address below. The closing period for their receipt is December 8, 2008. Rebuttal comments in response to material submitted during the foregoing period may be submitted during the subsequent 15-day period to December 22, 2008.

A copy of the application and accompanying exhibits will be available for public inspection at each of the following locations:

Office of the City Clerk, City of Mobile, 9th Floor, South Tower, Government Plaza, 205 Government Street, Mobile, AL 36602.

Office of the Executive Secretary, Foreign-Trade Zones Board, U.S. Department of Commerce, Room 2111, 1401 Constitution Ave. NW., Washington, DC 20230.

For further information, contact Elizabeth Whiteman at Elizabeth_Whiteman@ita.doc.gov or (202) 482-0473.

Dated: October 1, 2008.
Andrew McGilvray,
Executive Secretary.

[FR Doc. E8-23737 Filed 10-6-08; 8:45 am]

BILLING CODE 3510-DS-P